DEPARTMENT OF COMMERCE

International Trade Administration

[A-570-106]

Wooden Cabinets and Vanities and Components Thereof From the People's Republic of China: Recission of Antidumping Duty New Shipper Review; 2020

AGENCY: Enforcement and Compliance, International Trade Administration, Department of Commerce.

SUMMARY: The Department of Commerce (Commerce) determines that Dalian Hualing Wood Co., Ltd. (Hualing) does not qualify as a new shipper. Therefore, we are rescinding this new shipper review (NSR).

DATES: Applicable November 12, 2021.

FOR FURTHER INFORMATION CONTACT: Jacob Keller, AD/CVD Operations Office I, Enforcement and Compliance, International Trade Administration, U.S. Department of Commerce, 1401 Constitution Avenue NW, Washington, DC 20230; telephone: (202) 482-4849.

SUPPLEMENTARY INFORMATION:

Background

On August 18, 2021, Commerce published in the Federal Register the Preliminary Rescission of this NSR.¹ On September 17, 2021, Hualing filed its case brief and also requested a public hearing.² On September 24, 2021, the American Kitchen Cabinet Alliance (the petitioner) submitted its rebuttal brief.³ On October 22, 2021, we held a public hearing, pursuant to 19 CFR 351.310(c).

¹ See Wooden Cabinets and Vanities and Components Thereof from the People's Republic of China: Preliminary Recission of Antidumping Duty New Shipper Review; 2020, 86 FR 46178 (August 18, 2021) (Preliminary Recission).

² See Hualing's Letters, “Hualing Administrative Case Brief on Wooden Cabinets and Vanities and

Components Thereof from the People's Republic of China,” dated September 17, 2021; and “Hualing Hearing request on Wooden Cabinets and Vanities and Components Thereof from the People's Republic of China,” dated September 17, 2021.

³ See Petitioner's Letter, “Wooden Cabinets and Vanities and Components Thereof from the People's Republic of China: Rebuttal Brief,” dated September 24, 2021.

Scope of the Order ⁴

⁴ See Wooden Cabinets and Vanities and Components Thereof from the People's Republic of China: Antidumping Duty Order, 85 FR 22126 (April 21, 2020) (Order).

The products covered by the Order are wooden cabinets and vanities that are for permanent installation (including floor mounted, wall mounted, ceiling hung or by attachment of plumbing), and wooden components thereof. For a complete description of the scope of the Order, see the Issues and Decision Memorandum.⁵

⁵ See Memorandum, “Issues and Decision Memorandum for the Rescission of the Antidumping Duty New Shipper Review of Wooden Cabinets and Vanities and Components Thereof from the People's Republic of China; 2020,” dated concurrently with this notice (Issues and Decision Memorandum).

Analysis of Comments Received

All issues raised in this NSR are addressed in the Issues and Decision Memorandum, which is hereby adopted by this notice.⁶ The Issues and Decision Memorandum is a public document and is on file via Enforcement and Compliance's Antidumping and Countervailing Duty Centralized Service System (ACCESS). ACCESS is available to registered users at https://access.trade.gov. A list of topics discussed in the Issues and Decision Memorandum is included as an appendix to this notice. In addition, a complete version of the Issues and Decision Memorandum can be accessed directly at https://access.trade.gov/public/FRNoticesListLayout.aspx.

⁶ Id.

Recission of the Antidumping Duty New Shipper Review

Based on information on the record, we determine that Hualing does not meet the minimum requirements under 19 CFR 351.214(b)(2)(i) for a NSR. Therefore, we determine that it is appropriate to rescind the NSR with respect to Hualing.

Assessment Rate

Commerce does not intend to instruct U.S. Customs and Border Protection (CBP) to liquidate the relevant entry because the entry is subject to the administrative review covering the period April 1, 2020, through March 31, 2021, initiated on June 11, 2021.⁷

⁷ See Initiation of Antidumping and Countervailing Duty Administrative Reviews, 86 FR 31282 (June 11, 2021).

Cash Deposit Instructions

Because we are rescinding this NSR, we are not determining a company specific cash deposit rate for Hualing in this review. Hauling continues to be part of the China-wide entity and is, therefore, subject to the China-wide entity cash deposit rate.

Administrative Protective Order

This notice serves as a reminder to parties subject to an administrative protective order (APO) of their responsibility concerning the return or destruction of proprietary information disclosed under an APO in accordance with 19 CFR 351.305, which continues to govern business proprietary information in this segment of the proceeding. Timely written notification of the return or destruction of APO materials, or conversion to judicial protective order, is hereby requested. Failure to comply with the regulations and terms of an APO is a violation which is subject to sanction.

Notification to Interested Parties

We are issuing and publishing these results in accordance with sections 751(a)(2)(B) and 777(i)(1) of the Act.

Dated: November 5, 2021.
Ryan Majerus,
Deputy Assistant Secretary for Policy and Negotiations, performing the non-exclusive functions and duties of the Assistant Secretary for Enforcement and Compliance.

Appendix

List of Topics Discussed in the Preliminary Decision Memorandum

I. Summary

II. Background

III. Scope of the Order

IV. Discussion of the Issues

Comment 1: Commerce's Determination of Shipments of Subject Merchandise During the Period of Investigation

Comment 2: Declaration from the U.S. Customer

V. Recommendation

[FR Doc. 2021-24647 Filed 11-10-21; 8:45 am]

BILLING CODE 3510-DS-P